DEPARTMENT OF COMMERCE

National Oceanic and Atmospheric Administration

RIN 0648-XC86

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 139th meeting to consider and take actions on fishery management issues in the Western Pacific Region.

DATES: The 139th Council meeting and public hearings will be held on October 9 - 12, 2007. For specific times and the agenda, see SUPPLEMENTARY INFORMATION.

ADDRESSES: The 139th Council meeting and public hearings will be held at the Pagoda Hotel, 1525 Rycroft Drive, Honolulu, Hawaii, 96814; telephone: 808-941-6611.

FOR FURTHER INFORMATION CONTACT: Kitty M. Simonds, Executive Director; telephone: (808) 522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Tuesday, October 9, 2007

Standing Committees

1. 8 a.m. to 9 a.m.; Executive and Budget Standing Committee

2. 9 a.m. to 11 a.m.; Pelagics Ecosystem and International Fisheries Standing Committee

3. 11 a.m. to 1 p.m.; Hawaii Archipelago and Pacific Remote Island Areas (PRIA) Ecosystem Standing Committee

4. 2 p.m. to 3:30 p.m.; Marianas Archipelago Ecosystem Standing Committee

5. 2 p.m. to 3:30 p.m.; American Samoa Archipelago Ecosystem Standing Committee

6. 3:30 p.m. to 4:30 p.m.; Fishery Rights of Indigenous People Standing Committee

7. 4:30 p.m. to 6 p.m.; Program Planning Standing Committee

The agenda during the full Council meeting will include the items listed here.

Schedule and Agenda for Council Meeting

Wednesday, October 10, 2007, 9 a.m. to 5 p.m.

1. Introductions

2. Approval of Agenda

3. Approval of 138th Meeting Minutes

4. Agency Reports

A. NMFS

1. Pacific Islands Regional Office (PIRO)

2. Pacific Islands Fisheries Science Center (PIFSC)

B. NOAA General Counsel

C. United States Fish and Wildlife Service (USFWS)

D. Enforcement

1. United States Coast Guard (USCG)

2. NOAA Office for Law Enforcement (OLE)

3. Status of Violations

5. Action Items

A. Pelagics Ecosystem Action Items

1. Hawaii Swordfish Fishery Effort Options

2. Pelagics Total Allowable Catch (TAC) Amendment

3. Mariana Longline and Purse-Seine Closed Area Options

4. Non-Longline Pelagic Fishery Management Options

5. American Samoa Purse-Seine Closed Area Options

6. Initial Review of the American Samoa Management Program

B. Hawaii Archipelago Action Items

1. Bottomfish Risk Analysis

C. Fishery Rights of Indigenous People Action Items

1. Marine Training and Education Program

2. Community Development Program Options

D. Program Planning and Research Action Items

1. Western Pacific Recreational Fishery Data Collection Project

2. Federal Management Unit Species (MUS) Fishery Permitting and Reporting Options

3. Magnuson-Stevens Re-authorization Act Five-year Plan

4. Annual Catch Limit (ACL) Options

5. Marine Conservation Plans (MCP)

E. Scientific and Statistical Committee (SSC) Recommendations

F. Standing Committee Recommendations

G. Public Hearing

H. Council Discussion and Action

Thursday, October 11, 2007, 9 a.m. to 4 p.m.

6. Mariana Archipelago

A. Arongo flaeey and Islan Informe (Island Area Reports)

1. Commonwealth of the Northern Mariana Islands (CNMI)

2. Guam

B. Enforcement Issues

C. Mariana Community Issues

1. Military Access to Cultural Preserves

2. Saipan Fishermen's Cooperative

3. Status of Micronesian Challenge

4. Other Issues

D. Education and Outreach Initiatives

E. SSC Recommendations

F. Standing Committee Recommendations

G. Public Comment

H. Council Discussion and Action

7. American Samoa Archipelago

A. Motu Repote (Island Area Reports)

B. Enforcement Issues

C. Status of American Samoa Fishery Development Project

D. Report on American Samoa Marine Lab Development

E. American Samoa Community Issues

1. Fagatele Bay Sanctuary Report

2. Status of American Samoa Nearshore Fishery Resources

3. Report on US Coral Reef Task Force

i. Traditional Ecological Knowledge

ii. Report on Action Items

4. Other Issues

F. Education and Outreach Initiatives

G. SSC Recommendations

H. Standing Committee Recommendations

I. Public Comment

J. Council Discussion and Action

8. Hawaii Archipelago and Pacific Remote Island Areas (PRIA)

A. Moku Pepa (Island Area Reports)

B. Enforcement Issues

C. Hawaii Community Issues

1. Humpback Whale Sanctuary Report

2. Sustainability 2050

3. Other Issues

D. Education and Outreach Initiatives

E. SSC Recommendations

F. Standing Committee Recommendations

G. Public Comment

H. Council Discussion and Action

Thursday, October 11, 2007, 4 p.m. to 5 p.m.

9. Public Comment on Non-Agenda Items

Friday, October 12, 2007, 9 a.m. to 5 p.m.

10. Pelagic and International Fisheries

A. American Samoa and Hawaii Longline Quarterly Reports

B. International Fisheries

1. Inter-American Tropical Tuna Commission (IATTC) Annual Meeting

2. International Science Committee (ISC) Meeting

3. Western and Central Pacific Fisheries Commission (WCPFC), Third Science Committee Meeting

4. Northern Committee Meeting

5. Bellagio II

6. Tri-National Exchange

7. International Fishers Forum Four (IFF4)

C. SSC Recommendations

D. Standing Committee Recommendations

E. Public Comment

F. Council Discussion and Action

11. Program Planning

A. Regional Strategic Plan for Coastal Fisheries

B. Marine Recreational Information Program

1. Update on the Recreational Registry

C. Status of Hawaii Disaster Relief Program Projects

D. National and International Education and Outreach

E. Legislation

1. Oceans Conservation, Education, and National Strategy for the 21st Century Act

2. Coral Reef Conservation Act of 2007

3. Marine Mammal Protection Act

4. Offshore Aquaculture Act of 2007

F. Report on Magnuson-Stevens Act (MSRA) Workshop

G. SSC Recommendations

H. Standing Committee Recommendations

I. Public Comment

J. Council Discussion and Action

12. Administrative Matters & Budget

A. Financial Reports

B. Administrative Reports

C. Meetings and Workshops

D. Council Family Changes

1. Non-Commercial Data Advisory Group

E. Standing Committee Recommendations

F. Public Comment

G. Council Discussion and Action

13. Election of Officers for Calendar Year 2008

14. Other Business

A. Next Meeting

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 20, 2007.
Tracey L. Thompson,
Acting Director, Office of Sustainable Fisheries, National Marine Fisheries Service.

[FR Doc. E7-18865 Filed 9-24-07; 8:45 am]

BILLING CODE 3510-22-S